DEPARTMENT OF ENERGY

Federal Energy Regulatory Commission

Combined Notice of Filings #1

Take notice that the Commission received the following electric rate filings:

Docket Numbers: ER13-2124-002.

Applicants: Midcontinent Independent System Operator, Inc.

Description: 2014-04-29_ER13-2124-002_Amended Compliance Filing RSG Netting to be effective 3/17/2014.

Filed Date: 4/29/14.

Accession Number: 20140429-5330.

Comments Due: 5 p.m. ET 5/20/14.

Docket Numbers: ER14-221-000.

Applicants: Covanta Haverhill Associates, LP.

Description: Covanta Haverhill Associates, LP submits tariff filing per 35.19a(b): Supplement to Refund Report to be effective N/A.

Filed Date: 4/30/14.

Accession Number: 20140430-5238.

Comments Due: 5 p.m. ET 5/21/14.

Docket Numbers: ER14-1206-001.

Applicants: California Independent System Operator Corporation.

Description: 2014-04-30_Competitive Transmission Improvements_Compliance to be effective 4/1/2014.

Filed Date: 4/30/14.

Accession Number: 20140430-5140.

Comments Due: 5 p.m. ET 5/21/14.

Docket Numbers: ER14-1245-000.

Applicants: FirstEnergy Solutions Corp.

Description: Supplement to January 31, 2014 Application of FirstEnergy Solutions Corp. for authorization to sell electricity to The Potomac Edison Company, an affiliate.

Filed Date: 4/29/14.

Accession Number: 20140429-5378.

Comments Due: 5 p.m. ET 5/20/14.

Docket Numbers: ER14-1805-000.

Applicants: Black Hills Power, Inc.

Description: Amedment to Schedule B of GDEMA with Cheyenne Light, Fuel and Power Company to be effective 4/30/2014.

Filed Date: 4/29/14.

Accession Number: 20140429-5339.

Comments Due: 5 p.m. ET 5/20/14.

Docket Numbers: ER14-1806-000.

Applicants: Black Hills Power, Inc.

Description: Amedment to Schedule B of GDEMA with City of Gillette, Wyoming to be effective 4/30/2014.

Filed Date: 4/29/14.

Accession Number: 20140429-5340.

Comments Due: 5 p.m. ET 5/20/14.

Docket Numbers: ER14-1807-000.

Applicants: Black Hills Power, Inc.

Description: Amedment to Schedule B of GDEMA with Black Hills Wyoming, LLC to be effective 4/30/2014.

Filed Date: 4/29/14.

Accession Number: 20140429-5341.

Comments Due: 5 p.m. ET 5/20/14.

Docket Numbers: ER14-1808-000.

Applicants: Black Hills Power, Inc.

Description: Amedment to Schedule B of GDEMA with Black Hills/Colorado Electric Utility, L.P. to be effective 4/30/2014.

Filed Date: 4/29/14.

Accession Number: 20140429-5342.

Comments Due: 5 p.m. ET 5/20/14.

Docket Numbers: ER14-1809-000.

Applicants: Pacific Gas and Electric Company.

Description: E&P Agreement for California Flats Solar, LLC to be effective 5/1/2014.

Filed Date: 4/30/14.

Accession Number: 20140430-5002.

Comments Due: 5 p.m. ET 5/21/14.

Docket Numbers: ER14-1810-000.

Applicants: Unitil Power Corp.

Description: Unitil Power Corp submits Statement of all billing transactions under the Amended Unitil System Agreement for the period January 1, 2013 to December 31, 2013 etc.

Filed Date: 4/29/14.

Accession Number: 20140429-5357.

Comments Due: 5 p.m. ET 5/20/14.

Docket Numbers: ER14-1811-000.

Applicants: PJM Interconnection, L.L.C.

Description: First Revised Service Agreement No. 3147; Queue No. W4-103 to be effective 4/3/2014.

Filed Date: 4/30/14.

Accession Number: 20140430-5125.

Comments Due: 5 p.m. ET 5/21/14.

Docket Numbers: ER14-1812-000.

Applicants: MidAmerican Energy Company.

Description: Ottumwa GS Unit 1-Facilities & Oper Agr—Concurrence to be effective 6/24/2014.

Filed Date: 4/30/14.

Accession Number: 20140430-5184.

Comments Due: 5 p.m. ET 5/21/14.

Docket Numbers: ER14-1813-000.

Applicants: Midcontinent Independent System Operator, Inc.

Description: Midcontinent Independent System Operator, Inc. submits tariff filing per 35.13(a)(2)(iii): 2014-04-30 Attachment O-AIC Depreciation Rate Update to be effective 1/1/2014.

Filed Date: 4/30/14.

Accession Number: 20140430-5229.

Comments Due: 5 p.m. ET 5/21/14.

Docket Numbers: ER14-1814-000.

Applicants: Tampa Electric Company.

Description: Tampa Electric Company submits tariff filing per 35.13(a)(2)(iii): Emergency Interchange Service Schedule A&B—2014 (Bundled) to be effective 5/1/2014.

Filed Date: 4/30/14.

Accession Number: 20140430-5241.

Comments Due: 5 p.m. ET 5/21/14.

Docket Numbers: ER14-1815-000.

Applicants: Pacific Gas and Electric Company.

Description: Pacific Gas and Electric Company submits tariff filing per 35.13(a)(2)(iii): CCSF IA—45th Quarterly Filing of Facilities Agreements to be effective 3/31/2014.

Filed Date: 4/30/14.

Accession Number: 20140430-5270.

Comments Due: 5 p.m. ET 5/21/14.

Docket Numbers: ER14-1816-000.

Applicants: New York Independent System Operator, Inc.

Description: New York Independent System Operator, Inc. submits tariff filing per 35.13(a)(2)(iii): Tariff clarification on EDRP bids to be effective 6/29/2014.

Filed Date: 4/30/14.

Accession Number: 20140430-5290.

Comments Due: 5 p.m. ET 5/21/14.

Take notice that the Commission received the following land acquisition reports:

Docket Numbers: LA14-1-000.

Applicants: Beech Ridge Energy LLC, Bishop Hill Energy LLC, Bishop Hill Energy III LLC, California Ridge Wind Energy LLC, Forward Energy LLC, Grand Ridge Energy LLC, Grand Ridge Energy II LLC, Grand Ridge Energy III LLC, Grand Ridge Energy IV LLC, Grand Ridge Energy V LLC, Gratiot County Wind LLC, Gratiot County Wind II LLC, Grays Harbor Energy LLC, Hardee Power Partners Limited, Invenergy Cannon Falls LLC, Invenergy TN LLC, Judith Gap Energy LLC, Prairie Breeze Wind Energy LLC, Sheldon Energy LLC, Spring Canyon Energy LLC, Spindle Hill Energy LLC, Stony Creek Energy LLC, Vantage Wind Energy LLC, Willow Creek Energy LLC, Wolverine Creek Energy LLC.

Description: Quarterly Land Acquisition Report of Beech Ridge Energy LLC, et. al.

Filed Date: 4/30/14.

Accession Number: 20140430-5340.

Comments Due: 5 p.m. ET 5/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2014.
Kimberly D. Bose,
Secretary.

[FR Doc. 2014-10614 Filed 5-8-14; 8:45 am]

BILLING CODE 6717-01-P